DEPARTMENT OF HEALTH AND HUMAN SERVICES

National Institutes of Health

Center for Scientific Review; Amended Notice of Meeting

Notice is hereby given of a change in the meeting of the Center for Scientific Review Special Emphasis Panel, April 4, 2000, 2:00 PM to April 4, 2000, 4 PM, NIH, Rockledge 2, Bethesda, MD, 20892 which was published in the Federal Register on March 27,2000, 65 FR 16214.

The meeting will be held on April 6, 2000 from 1:30 PM to 4:00 PM. The location remains the same. The meeting is closed to the public.

Dated: April 3, 2000.
LaVerne Y. Stringfield,
Director, Office of Federal Advisory Committee Policy.

[FR Doc. 00-8788 Filed 4-7-00; 8:45 am]

BILLING CODE 4140-01-M